NATIONAL SCIENCE FOUNDATION

Sunshine Act Meeting

agency holding meeting: National Science Foundation, National Science Board, Committee on Nominations.

date and time: April 12, 11:30 a.m. to 12:30 p.m.

place: National Science Foundation, Room 1220, 4201 Wilson Boulevard, Arlington, VA 22230.

status: This meeting will be closed to the public.

matters to be considered: Monday, April 12, 2004. Closed Session (11:30 a.m. to 12:30 p.m.)

Selection of committee chairman; Discussion of candidates for NSB Chairman and Vice Chairman; Discussion of candidates for two vacancies on the NSB Executive Committee.

for information contact: Michael P. Crosby, Ph.D., Director, National Science Board Office and Executive Officer, (703) 292-7000, www.nsf.gov/nsb.

Michael P. Crosby,
Director, National Science Board Office and Executive Officer.

[FR Doc. 04-8449 Filed 4-9-04; 12:20 pm]

BILLING CODE 7555-01-M